OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between October 1, 2007, and October 31, 2007. Future notices will be published on the fourth Tuesday of each month, or as soon as possible thereafter. A consolidated listing of all authorities as of June 30 is published each year.

Schedule A

No Schedule A appointments were approved for October 2007.

Schedule B

No Schedule B appointments were approved for October 2007.

Schedule C

The following Schedule C appointments were approved during October 2007.

Section 213.3303 Executive Office of the President

Office of Management and Budget

BOGS70031 Executive Assistant to the Associate Director for Natural Resource Programs. Effective October 11, 2007.

Office of National Drug Control Policy

QQGS70016 Legislative Assistant to the Associate Director Office of Legislative Affairs. Effective October 19, 2007.

Office of the United States Trade Representative

TNGS70008 Deputy Assistant United States Trade Representative for Congressional Affairs to the Assistant United States Trade Representative for Congressional Affairs. Effective October 03, 2007.

Section 213.3304 Department of State

DSGS61264 Special Assistant to the Director, Policy Planning Staff. Effective October 02, 2007.

DSGS61263 Special Assistant to the Assistant Secretary for Democracy Human Rights and Labor. Effective October 10, 2007.

DSGS61260 Staff Assistant to the Ambassador-At-Large (War Crimes). Effective October 11, 2007.

DSGS61262 Legislative Management Officer to the Assistant Secretary for Legislative and Intergovernmental Affairs. Effective October 16, 2007.

DSGS61265 Senior Advisor to the Secretary of State. Effective October 26, 2007.

Section 213.3306 Department of Defense

DDGS17113 Staff Assistant to the Deputy Assistant Secretary of Defense (Western Hemisphere Affairs). Effective October 02, 2007.

DDGS17117 Special Assistant to the Assistant Secretary of Defense (Legislative Affairs). Effective October 03, 2007.

DDGS17108 Staff Assistant to the Principal Deputy to the Deputy Under Secretary of Defense (Asian and Pacific Security Affairs). Effective October 09, 2007.

DDGS17095 Staff Assistant for Correspondence to the Special Assistant to the Secretary and Deputy Secretary of Defense. Effective October 11, 2007.

Section 213.3310 Department of Justice

DJGS00067 Chief of Staff to the Assistant Attorney General, Office of Justice Programs. Effective October 02, 2007.

DJGS00229 Public Affairs Specialist to the Director, Office of Public Affairs. Effective October 10, 2007.

Section 213.3311 Department of Homeland Security

DMGS00717 Special Assistant to the Assistant Secretary for Private Sector. Effective October 03, 2007.

DMGS00719 Confidential Assistant to the White House Liaison. Effective October 11, 2007.

DMGS00721 Confidential Assistant to the Executive Secretary. Effective October 11, 2007.

DMGS00722 Advisor to the Executive Officer. Effective October 17, 2007.

DMGS00720 Confidential Assistant to the Chief of Staff. Effective October 24, 2007.

DMGS00724 Advisor to the Assistant Secretary for Policy. Effective October 31, 2007.

Section 213.3312 Department of the Interior

DIGS01109 Associate Director—Congressional and Legislative Affairs to the Director, Congressional and Legislative Affairs. Effective October 16, 2007.

DIGS01108 Special Assistant for Public Affairs to the Director, Take Pride In America. Effective October 24, 2007.

DIGS01110 Chief of Staff to the Director Minerals Management Service. Effective October 25, 2007.

Section 213.3313 Department of Agriculture

DAGS00921 Confidential Assistant to the Assistant Secretary for Congressional Relations. Effective October 03, 2007.

DAGS00917 Special Assistant to the Under Secretary for Natural Resources and Environment. Effective October 11, 2007.

DAGS00922 Associate Administrator to the Administrator, Rural Housing Service. Effective October 11, 2007.

DAGS00924 Staff Assistant to the Administrator for Risk Management. Effective October 29, 2007.

Section 213.3314 Department of Commerce

DCGS00684 Director for Speechwriting to the Director of Public Affairs. Effective October 04, 2007.

DCGS00353 Confidential Assistant to the Assistant Secretary and Director General of United States/For Commercial Services. Effective October 19, 2007.

DCGS00161 Confidential Assistant to the Director, Office of Legislative Affairs. Effective October 26, 2007.

DCGS00448 Confidential Assistant to the Assistant Secretary for Market Access and Compliance. Effective October 26, 2007.

Section 213.3315 Department of Labor

DLGS60093 Staff Assistant to the Director of Scheduling. Effective October 03, 2007.

DLGS60113 Special Assistant to the Deputy Assistant Secretary, Office of Disability Employment Policy. Effective October 03, 2007.

DLGS60081 Legislative Assistant to the Assistant Secretary for Congressional and Intergovernmental Affairs. Effective October 17, 2007.

DLGS60194 Special Assistant to the Associate Deputy Secretary. Effective October 17, 2007.

DLGS60199 Special Assistant to the Assistant Secretary for Public Affairs. Effective October 17, 2007.

DLGS60044 Special Assistant to the Director, Office of Faith Based and Community Initiatives. Effective October 24, 2007.

DLGS60118 Staff Assistant to the Executive Assistant to the Secretary. Effective October 24, 2007.

DLGS60074 Special Assistant to the Assistant Secretary for Public Affairs. Effective October 26, 2007.

DLGS60266 Chief of Staff to the Assistant Secretary for Mine Safety and Health. Effective October 26, 2007.

Section 213.3316 Department of Health and Human Services

DHGS60005 Special to the Assistant Secretary for Aging (Commissioner for Aging). Effective October 03, 2007.

DHGS60513 Confidential Assistant to the Deputy Director Office of Child Support Enforcement. Effective October 10, 2007.

DHGS60526 Confidential Assistant to the Deputy Secretary, Health and Human Services. Effective October 19, 2007.

DHGS60028 Special Assistant to the Chief of Staff. Effective October 24, 2007.

Section 213.3317 Department of Education

DBGS00657 Confidential Assistant to the Chief of Staff to the Deputy Secretary. Effective October 10, 2007.

DBGS00507 Confidential Assistant to the General Counsel. Effective October 11, 2007.

DBGS00652 Special Assistant to the Assistant Secretary for Management. Effective October 24, 2007.

DBGS00653 Confidential Assistant to the Director, Scheduling and Advance Staff. Effective October 24, 2007.

DBGS00655 Special Assistant to the Director, Office of Educational Technology. Effective October 24, 2007.

Section 213.3318 Environmental Protection Agency

EPGS07020 Confidential Assistant to the Deputy Chief of Staff (Operations). Effective October 03, 2007.

EPGS06008 Advance Specialist to the Deputy Chief of Staff (Operations). Effective October 09, 2007.

EPGS05018 Deputy Associate Administrator for Office of Congressional Affairs to the Associate Administrator for Congressional and Intergovernmental Relations. Effective October 10, 2007.

EPGS07022 Program Manager (Scheduling) to the Deputy Chief of Staff (Operations). Effective October 10, 2007.

EPGS07025 Advance Specialist to the Deputy Chief of Staff (Operations). Effective October 17, 2007.

EPGS07023 Advance Specialist to the Deputy Chief of Staff (Operations). Effective October 19, 2007.

Section 213.3327 Department of Veterans Affairs

DVGS60080 Special Assistant to the Secretary of Veterans Affairs. Effective October 11, 2007.

Section 213.3331 Department of Energy

DEGS00617 Special Assistant to the Director, Office of Scheduling and Advance. Effective October 10, 2007.

Section 213.3332 Small Business Administration

SBGS00634 Regional Administrator (Region I) to the Associate Administrator for Field Operations. Effective October 10, 2007.

Section 213.3337 General Services Administration

GSGS60103 Special Assistant to the Chief of Staff. Effective October 09, 2007.

GSGS00161 Public Affairs Specialist to the Deputy Associate Administrator for Communications. Effective October 24, 2007.

Section 213.3379 Commodity Futures Trading Commission

CTOT00056 Special Assistant to the Commissioner. Effective October 03, 2007.

CTOT00788 Attorney-Advisor (General) to a Commissioner. Effective October 04, 2007.

Section 213.3382 National Endowment for the Humanities

NHGS00081 Special Assistant to the Chairman. Effective October 19, 2007.

Section 213.3391 Office of Personnel Management

PMGS00071 Scheduler and Special Assistant to the Chief of Staff and Director of External Affairs. Effective October 10, 2007.

Section 213.3393 Pension Benefit Guaranty Corporation

BGGS01152 Chief of Staff to the Executive Director. Effective October 03, 2007.

Section 213.3394 Department of Transportation

DTGS60139 Special Assistant to the Deputy Secretary. Effective October 24, 2007.

Authority: 5 U.S.C. 3301 and 3302; E.O. 10577, 3 CFR 1954-1958 Comp., p. 218.

U.S. Office of Personnel Management.
Howard Weizmann,
Deputy Director.

[FR Doc. E7-23758 Filed 12-6-07; 8:45 am]

BILLING CODE 6325-39-P